SECURITIES AND EXCHANGE COMMISSION

[File No. 500-1]

In the Matter of AcuNetx, Inc., Alliance Pharmaceutical Corp., BBV Vietnam SE.A. Acquisition Corp., Cash Technologies, Inc., Conspiracy Entertainment Holdings, Inc., Dematco, Inc., and Interactive Systems Worldwide, Inc.; Order of Suspension of Trading

September 24, 2013.

It appears to the Securities and Exchange Commission that there is a lack of current and accurate information concerning the securities of AcuNetx, Inc. because it has not filed any periodic reports since the period ended June 30, 2010.

It appears to the Securities and Exchange Commission that there is a lack of current and accurate information concerning the securities of Alliance Pharmaceutical Corp. because it has not filed any periodic reports since the period ended March 31, 2010.

It appears to the Securities and Exchange Commission that there is a lack of current and accurate information concerning the securities of BBV Vietnam SE.A. Acquisition Corp. because it has not filed any periodic reports since the period ended December 31, 2008.

It appears to the Securities and Exchange Commission that there is a lack of current and accurate information concerning the securities of Cash Technologies, Inc. because it has not filed any periodic reports since the period ended February 28, 2009.

It appears to the Securities and Exchange Commission that there is a lack of current and accurate information concerning the securities of Conspiracy Entertainment Holdings, Inc. because it has not filed any periodic reports since the period ended September 30, 2010.

It appears to the Securities and Exchange Commission that there is a lack of current and accurate information concerning the securities of Dematco, Inc. because it has not filed any periodic reports since the period ended August 31, 2009.

It appears to the Securities and Exchange Commission that there is a lack of current and accurate information concerning the securities of Interactive Systems Worldwide, Inc. because it has not filed any periodic reports since the period ended March 31, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 24, 2013, through 11:59 p.m. EDT on October 7, 2013.

By the Commission.
Jill M. Peterson,
Assistant Secretary.

[FR Doc. 2013-23579 Filed 9-24-13; 4:15 pm]

BILLING CODE 8011-01-P